FEDERAL COMMUNICATIONS COMMISSION

47 CFR Part 73

[MB Docket No. 20-299; FCC 24-61; FR ID 297603]

Sponsorship Identification Requirements for Foreign Government-Provided Programming

AGENCY: Federal Communications Commission.

ACTION: Final rule; announcement of effective date.

SUMMARY: In this document, the Federal Communications Commission (Commission) announces that the Office of Management and Budget (OMB) has approved revisions to the information collection requirements under OMB Control Number 3060-0174, as associated with the revisions in the Federal Communications Commission's Second Report and Order: Sponsorship Identification Requirements for Foreign Government-Provided Programming, FCC 24-61 (Second R&O). The Second R&O adopted a requirement that radio and television stations broadcast clear disclosures for programming that is provided by a foreign governmental entity and set forth the procedures for exercising reasonable diligence to determine whether such a disclosure is needed. This document is consistent with the Second R&O, which states that the Commission will publish a document in the Federal Register announcing the effective date for these amended rule sections and revise the rules accordingly.

DATES: The amendments in instruction 3 (47 CFR 73.1212(j)(3)), published at 89 FR 57775 on July 16, 2024, are effective June 10, 2025.

FOR FURTHER INFORMATION CONTACT: Cathy Williams, Office of the Managing Director, Federal Communications Commission, at (202) 418-2918 or Cathy.Williams@fcc.gov.

SUPPLEMENTARY INFORMATION: This document announces that the Office of Management and Budget (OMB) approved the information collection requirements in 47 CFR 73.1212(j)(3) on May 19, 2025. These rule sections were adopted in the Second R&O, FCC 24-61 (89 FR 57775, July 16, 2024). The Commission publishes this document as an announcement of the effective date for these amended rules.

If you have any comments on the burden estimates listed below, or how the Commission can improve the collections and reduce any burdens caused thereby, please contact Cathy Williams, Cathy.Williams@fcc.gov. Please include the OMB Control Number in your correspondence. The Commission will also accept your comments via email at PRA@fcc.gov.

Synopsis

As required by the Paperwork Reduction Act of 1995 (44 U.S.C. 3507), the Commission is notifying the public that it received final OMB approval on May 18, 2025, for the information collection requirements contained in 47 CFR 73.1212(j)(3). Under 5 CFR part 1320, an agency may not conduct or sponsor a collection of information unless it displays a current, valid OMB Control Number.

No person shall be subject to any penalty for failing to comply with a collection of information subject to the Paperwork Reduction Act that does not display a current, valid OMB Control Number. The OMB Control Number for the information collection requirements in 47 CFR 73.1212(j)(3) is 3060-0174.

The foregoing notice is required by the Paperwork Reduction Act of 1995, Public Law 104-13, October 1, 1995, and 44 U.S.C. 3507.

The total annual reporting burdens and costs for the respondents are as follows:

OMB Control Number: 3060-0174.

Title: Sections 73.1212, 76.1615, and 76.1715, Sponsorship Identification.

Form Number: Not applicable.

Respondents: Business or other for-profit entities and Individuals or households.

Number of Respondents and Responses: 52,760 respondents; 1,939,422 responses.

Estimated Hours per Response: 0.0011 hour-2.166 hours.

Frequency of Response: Recordkeeping requirement; Third party disclosure requirement; On occasion reporting requirement.

Total Annual Burden: 347,851 hours.

Total Annual Cost: $2,010,723.

Obligation to Respond: Required to obtain or retain benefits. The statutory authority for this collection of information is contained in 47 U.S.C. 151, 152, 154(i), 154(j), 303(r), 307, 317, and 325(c) of the Communications Act, as amended.

Needs and Uses: The Commission, in the Second Report and Order, FCC 24-61, takes steps to ensure clear and reasonable foreign sponsorship identification rules. Section 73.1212(j) of the Commission's rules, 47 CFR 73.1212(j), requires radio and television broadcast stations to disclose to their audiences, at the time of broadcast, when material aired pursuant to the lease of time on the station has been sponsored, paid for, or furnished by a foreign governmental entity. Section 73.1212(k) of the Commission's rules, 47 CFR 73.1212(k), imposes corresponding obligations on stations with section 325(c) permits. The Commission's authority to impose these regulations stems from section 317 of the Communications Act, which requires broadcast licensees to inform their audiences when the station has been paid to air a particular program, in furtherance of the longstanding broadcasting tenet that the public has a right to know the identity of those that solicit its support.

The foreign sponsorship identification rules require broadcast licensees, at the time of entering or renewing a lease agreement (unless a once-a-year exception applies), to exercise reasonable diligence to ascertain whether a programming disclosure is required. To ensure that licensees are complying with their reasonable diligence and disclosure obligations, the foreign sponsorship identification rules require licensees to memorialize their required inquiries of lessees and to maintain records of their programming disclosures and their reasonable diligence efforts.

In the Second Report and Order, the Commission modified the rule's information collection requirements by adopting an approach that provides licensees with two options for demonstrating that they have met their duty of inquiry in seeking to obtain the information needed to determine whether the programming provided by a lessee is sponsored by a foreign governmental entity. The Commission designed this approach to provide licensees with as much flexibility as possible and to minimize their paperwork costs and burdens while still ensuring compliance with the reasonable diligence requirements.

One option available to licensees is the use of certifications, where both the licensee and the lessee complete a certification reflecting the communications and inquiries required under the existing rules. Licensees and lessees have the option either to use sample certification language set forth in simple, one-page, “check-box” templates appended to the Second Report and Order or to use language of the parties' own choosing. Most licensee and lessee employees should be able to complete the forms quickly and readily, based upon their existing knowledge and understanding. It is highly unlikely that either the licensee or the lessee would need to engage in any type of research to respond to the queries contained in the certifications. Notably, these are the same inquiries the Commission adopted in the First Report and Order, only formatted now as a certification. If licensees and lessees prefer not to use the Commission's templates, they may use their own certification language, provided that language addresses the points listed in § 73.1212(j)(3)(i) through (iii) of the rules, which were adopted in the First Report and Order. The Commission granted this flexibility to alleviate or minimize costs for licensees that already had developed their own certifications based on the existing foreign sponsorship identification rules. A lessee's certification should convey the information needed to determine whether a disclosure is required and the information needed for a broadcast disclosure if one is required.

As an alternative to the certification option, licensees may choose to ask their lessees for screenshots of lessees' search results of two federal government websites (the Department of Justice's FARA database and the Commission's U.S.-based foreign media outlet report). Licensees choosing this option must still comply with all other aspects of the current rules, as they have been required to do since the compliance date of the First Report and Order. Licensees are encouraged to include in their lease agreements a requirement for lessees to provide notice of any change in status so as to trigger the need for a foreign sponsorship disclosure.

Federal Communications Commission.
Marlene Dortch,
Secretary.

[FR Doc. 2025-10478 Filed 6-9-25; 8:45 am]

BILLING CODE 6712-01-P